DEPARTMENT OF ENERGY

Federal Energy Regulatory Commission

Combined Notice of Filings # 1

June 23, 2008.

Take notice that the Commission received the following electric rate filings:

Docket Numbers: ER03-345-011.

Applicants: New England Power Pool Participants Committee.

Description: ISO New England Inc submits its semi-annual status report on Load Response Programs.

Filed Date: 06/18/2008.

Accession Number: 20080619-0114.

Comment Date: 5 p.m. Eastern Time on Wednesday, July 09, 2008.

Docket Numbers: ER05-1097-004.

Applicants: BJ Energy LLC.

Description: BJ Energy, LLC submits an updated market power analysis, and request for determination of Category 1 Seller Status pursuant to Order 697 and 697-A.

Filed Date: 06/18/2008.

Accession Number: 20080620-0010.

Comment Date: 5 p.m. Eastern Time on Wednesday, July 09, 2008.

Docket Numbers: ER08-1069-000.

Applicants: Happy Jack Windpower, LLC.

Description: Application of Happy Jack Windpower, LLC for Market-Based Rate Authority.

Filed Date: 06/18/2008.

Accession Number: 20080620-0083.

Comment Date: 5 p.m. Eastern Time on Wednesday, July 09, 2008.

Docket Numbers: ER08-1120-000.

Applicants: Trans-Allegheny Interstate Line Company.

Description: Trans-Allegheny Interstate Line Company submits its Information Filing of 2008 Formula Rate Annual Update.

Filed Date: 05/15/2008.

Accession Number: 20080515-5103.

Comment Date: 5 p.m. Eastern Time on Wednesday, July 02, 2008.

Docket Numbers: ER08-1140-000.

Applicants: Southern California Edison Company.

Description: Southern California Edison Co submits Second Revised Sheet 19 et al to First Revised Rate Schedule 466 to the Second Amended and Restated 33 kV Added Facilities Agreement with Southern California Water Co.

Filed Date: 06/19/2008.

Accession Number: 20080620-0011.

Comment Date: 5 p.m. Eastern Time on Thursday, July 10, 2008.

Docket Numbers: ER08-1141-000.

Applicants: Public Service Company of New Mexico.

Description: Public Service Company of New Mexico submits Service Agreement 291 under the PNM OATT for 25 MW of capacity etc with Aragonne Wind, LLC.

Filed Date: 06/19/2008.

Accession Number: 20080620-0012.

Comment Date: 5 p.m. Eastern Time on Thursday, July 10, 2008.

Docket Numbers: ER08-1142-000.

Applicants: Southern California Edison Company.

Description: Southern California Edison Company submits an amended letter agreement with PPM Energy, Inc.

Filed Date: 06/19/2008.

Accession Number: 20080620-0013.

Comment Date: 5 p.m. Eastern Time on Thursday, July 10, 2008.

Take notice that the Commission received the following open access transmission tariff filings:

Docket Numbers: OA07-91-001.

Applicants: Xcel Energy Services Inc.

Description: Order No. 890 OATT Filing of Xcel Energy Services Inc. in response to letter Order of FERC issued May 20, 2008.

Filed Date: 06/19/2008.

Accession Number: 20080619-5057.

Comment Date: 5 p.m. Eastern Time on Thursday, July 10, 2008.

Docket Numbers: OA08-52-001.

Applicants: New York Independent System Operator, Inc.

Description: New York Independent System Operator, Inc et al submits additional revisions to Attachment Y etc in compliance with Order 890.

Filed Date: 06/18/2008.

Accession Number: 20080620-0085.

Comment Date: 5 p.m. Eastern Time on Wednesday, July 09, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E8-14790 Filed 6-27-08; 8:45 am]

BILLING CODE 6717-01-P